DEPARTMENT OF THE INTERIOR

National Park Service

[NPS-WASO-CR-HPS-19352; PPWOCRADI0, PCU00RP14.R50000]

Proposed Renewal of Information Collection; Historic Preservation Certification Application

AGENCY: National Park Service, Interior.

ACTION: Notice; request for comments.

SUMMARY: We (National Park Service, NPS) will ask the Office of Management and Budget (OMB) to renew approval for the information collection (IC) described below. To comply with the Paperwork Reduction Act of 1995 and as a part of our continuing efforts to reduce paperwork and respondent burden, we invite the general public and other Federal agencies to comment on this IC. This IC is scheduled to expire on July 31, 2016. We may not conduct or sponsor and a person is not required to respond to a collection unless it displays a currently valid OMB control number.

DATES: Please submit your comment on or before March 14, 2016.

ADDRESSES: Please send your comments on the ICR to Madonna L. Baucum, Information Collection Clearance Officer, National Park Service, 12201 Sunrise Valley Drive, Room 2C114, Mail Stop 242, Reston, VA 20192 (mail); or madonna_baucum@nps.gov (email). Please reference “1024-0009” in the subject line of your comments.

FOR FURTHER INFORMATION CONTACT: Brian Goeken, Chief, Technical Preservation Services, 1849 C St. NW. (2255), Washington, DC 20240. You may send an email to brian_goeken@nps.gov or via fax at (202) 371-1616.

SUPPLEMENTARY INFORMATION:

I. Abstract

The Federal Historic Preservation Tax Incentives Program encourages private sector investment in the rehabilitation and re-use of historic buildings. Through this program, underutilized or vacant schools, warehouses, factories, retail stores, apartments, hotels, houses, offices, and other buildings throughout the country, of every period, size, style and type, have been returned to useful life in a manner that maintains their historic character.

Section 47 of the Internal Revenue Code requires that the Secretary of the Interior certify to the Secretary of the Treasury upon application by owners of historic properties for Federal tax benefits: (a) The historic character of the property, and (b) that the rehabilitation work is consistent with that historic character. We administer the program with the Internal Revenue Service in partnership with the State Historic Preservation Offices. We use the Historic Preservation Certification Application (Forms 10-168, 10-168a, 10-168b, and 10-168c) to evaluate the condition and historic significance of buildings undergoing rehabilitation for continued use, and to evaluate whether or not the rehabilitation work meets the Secretary of the Interior's Standards for Rehabilitation. Regulations at 36 CFR part 67 contain a requirement for completion of an application form. We need the information required on the application form to allow the authorized officer to determine if the applicant is qualified to obtain historic preservation certifications from the Secretary of the Interior. These certifications are necessary for an applicant to receive substantial Federal tax incentives authorized by Section 47 of the Internal Revenue Code. These incentives include a 20% Federal income tax credit for the rehabilitation of historic buildings and an income tax deduction for the donation of easements on historic properties. The Internal Revenue Code also provides a 10% Federal income tax credit for the rehabilitation of nonhistoric buildings built before 1936, and an owner of a nonhistoric building in a historic district must also use the application to obtain a certification from the Secretary of the Interior that his or her building does not contribute to the significance of the historic district before claiming this lesser tax credit for rehabilitation.

State Historic Preservation Offices (SHPOs) are the first point of contact for property owners wishing to use the rehabilitation tax credit. They help applicants determine if an historic building is eligible for Federal or State historic preservation tax incentives, provide guidance on an application before or after the project begins, and provide advice on appropriate preservation work. SHPOs use Forms 10-168d and 10-168e to make recommendations to NPS.

In accordance with 36 CFR 67, we also collect information for: (1) Certifications of State and local statutes (§ 67.8), (2) certifications of State or local historic districts (§ 67.9), and (3) appeals (§ 67.10).

II. Data

OMB Control Number: 1024-0009.

Title: Historic Preservation Certification Application—36 CFR part 67.

Form Numbers (s): 10-168, 10-168a, 10-168b, 10-168c, 10-168d, and 10-168e.

Type of Request: Revision of a currently approved collection of information.

Description of Respondents: Individuals or households, businesses, and other for-profit entities.

Respondent's Obligation: Required to obtain or retain benefits.

Frequency of Collection: On occasion.

Activity | Estimated total annual responses | Estimated average completion time | Estimated total annual burden hours
Part 1—Form 10-168 | 1,117 | 27 | 15,066
Part 2—Form 10-168a | 1,181 | 51 | 30,090
Amendment—Form 10-168b | 1,817 | 17 | 15,436
Part 3—Form 10-168c | 790 | 14 | 5,530
State Review
Form 10-168d | 1,117 | 2.5 | 2,793
Form 10-168e (for Part 2s) | 1,181 | 5 | 5,905
Form 10-168e (for Part 3s) | 790 | 3.5 | 2,765
Form 10-168e (for Amds.) | 1,817 | 2.5 | 4,543
Certification of Statutes | 2 | 5 | 10
Certification of Historic Districts | 2 | 60 | 120
Appeals | 34 | 40 | 160
Totals | 9,848 |  | 82,418

Estimated Total Annual Nonhour Cost Burden: $3,407.43, primarily associated with application fees and other costs, such as printing photographs and architectural drawings.

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: January 7, 2016.
Madonna L. Baucum,
Information Collection Clearance Officer, National Park Service.

[FR Doc. 2016-00500 Filed 1-12-16; 8:45 am]

BILLING CODE 4310-EH-P